DEPARTMENT OF TRANSPORTATION

Federal Aviation Administration

14 CFR Part 39

[Docket No. FAA-2023-2150; Project Identifier MCAI-2023-00188-R; Amendment 39-22603; AD 2023-23-01]

RIN 2120-AA64

Airworthiness Directives; Airbus Helicopters

AGENCY: Federal Aviation Administration (FAA), DOT.

ACTION: Final rule; request for comments.

SUMMARY: The FAA is superseding Airworthiness Directive (AD) 2022-01-05, which applied to certain Airbus Helicopters Model EC130T2 helicopters. AD 2022-01-05 required repetitive visual inspections of the rivets on the rear transmission shaft bearing support, inspections of the local structure, and rivet heads on the left-hand and right-hand sides of the rear transmission shaft bearing support for cracking, missing, loose, or sheared rivets. AD 2022-01-05 also required reporting the results of those inspections and depending on the results, applicable corrective action. Since the FAA issued AD 2022-01-05, Airbus Helicopters revised its service information to add procedures to improve visual inspections of the rivets on the rear transmission shaft bearing support. This AD was prompted by the determination that certain modified helicopters may have finishing paint applied to the gutter, which could prevent detection of cracks during inspections. This AD also extends the repetitive compliance time interval for certain inspections. This AD continues to require certain actions in AD 2022-01-05 and requires a one-time visual inspection for paint in the gutter area, and removal of paint if necessary, as specified in a European Union Aviation Safety Agency (EASA) AD, which is incorporated by reference. The FAA is issuing this AD to address the unsafe condition on these products.

DATES: This AD is effective November 29, 2023.

The Director of the Federal Register approved the incorporation by reference of a certain publication listed in this AD as of November 29, 2023.

The FAA must receive comments on this AD by December 29, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-2150; or in person at Docket Operations between 9 a.m. and 5 p.m., Monday through Friday, except Federal holidays. The AD docket contains this final rule, the EASA AD, any comments received, and other information. The street address for Docket Operations is listed above.

Material Incorporated by Reference:

• For EASA material identified in this final rule, contact EASA, Konrad-Adenauer-Ufer 3, 50668 Cologne, Germany; telephone +49 221 8999 000; email ADs@easa.europa.eu; internet www.easa.europa.eu.

• You may view this material at the FAA, Office of the Regional Counsel, Southwest Region, 10101 Hillwood Pkwy., Room 6N-321, Fort Worth, TX 76177. For information on the availability of this material at the FAA, call (817) 222 5110. It is also available at regulations.gov under Docket No. FAA-2023-2150.

Other Related Service Information: For Airbus Helicopters service information identified in this final rule, contact Airbus Helicopters, 2701 North Forum Drive, Grand Prairie, TX 75052; phone (972) 641-0000 or (800) 232-0323; fax (972) 641-3775; or at airbus.com/en/products-services/helicopters/hcare-services/airbusworld. You may also view this service information at the FAA contact information under Material Incorporated by Reference above.

FOR FURTHER INFORMATION CONTACT: Dan McCully, Program Manager, International Validation Branch, FAA, 1600 Stewart Ave., Suite 410, Westbury, NY 11590; telephone (404) 474-5548; email william.mccully@faa.gov.

SUPPLEMENTARY INFORMATION:

Comments Invited

The FAA invites you to send any written data, views, or arguments about this final rule. Send your comments to an address listed under ADDRESSES. Include “Docket No. FAA-2023-2150; Project Identifier MCAI-2023-00188-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan McCully, Program Manager, International Validation Branch, FAA, 1600 Stewart Ave., Suite 410, Westbury, NY 11590; telephone (404) 474-5548; email william.mccully@faa.gov. Any commentary that the FAA receives which is not specifically designated as CBI will be placed in the public docket for this rulemaking.

Background

The FAA issued AD 2022-01-05, Amendment 39-21893 (86 FR 74353, December 30, 2021) (AD 2022-01-05), for certain Airbus Helicopters Model EC130T2 helicopters. AD 2022-01-05 was prompted by EASA Emergency AD 2021-0283-E, dated December 17, 2021 (EASA AD 2021-0283-E) originated by EASA, which is the Technical Agent for the Member States of the European Union. EASA AD 2021-0283-E was issued to correct an unsafe condition on certain Airbus Helicopters Model EC130T2 helicopters. AD 2022-01-05 required repetitive visual inspections of the rivets on the rear transmission upper and lower bearing support, the local structure, and the rivet heads on the left-hand and right-hand sides of the rear transmission shaft bearing support. The FAA issued AD 2022-01-05 to address sheared attachment rivets of the transmission shaft bearing support and prevent failure of the tail rotor drive shaft and subsequent loss of yaw control of the helicopter.

Actions Since AD 2022-01-05 Was Issued

Since the FAA issued AD 2022-01-05, EASA superseded EASA AD 2021-0283-E by issuing EASA AD 2021-0283R1, dated February 11, 2022; corrected February 25, 2022 (EASA AD 2021-0283R1), to extend both the repetitive compliance time to accomplish the inspections of the rivets on the rear transmission shaft bearing support and of the local structure, and the repetitive compliance time to accomplish the inspections of the rivet heads of the rear bearing support. Thereafter, EASA superseded EASA AD 2021-0283R1 by issuing EASA AD 2023-0028, dated February 1, 2023 (EASA AD 2023-0028), to correct an unsafe condition on Airbus Helicopters Model EC 130 T2 helicopters with AH modification 074581 incorporated in production. EASA AD 2023-0028 states some helicopters were identified to have finishing paint applied on the gutter, which could prevent the detection of cracks during required visual inspections. In light of this, Airbus Helicopters revised its service information to provide instruction to inspect for paint, and if necessary, removing paint from the gutter. Accordingly, EASA AD 2023-0028 retains the requirements of EASA AD 2021-0283R1 and also requires a one-time visual inspection of the gutter and if necessary, removal of paint in this area. EASA considers its AD an interim action and states that further AD action may follow. See EASA AD 2023-0028 for additional background information.

You may examine EASA AD 2023-0028 in the AD docket at regulations.gov under Docket No. FAA-2023-2150.

Related Service Information Under 1 CFR Part 51

EASA AD 2023-0028 requires repetitive visual inspections of the rivets on the rear transmission upper and lower bearing support, the local structure, and the rivet heads on the left-hand and right-hand sides of the rear transmission shaft bearing support. EASA AD 2023-0028 also requires a one-time visual inspection of the gutter for finishing paint. Depending on the results, EASA AD 2023-0028 requires contacting Airbus Helicopters to obtain approved repair instructions and accomplishing those instructions, or replacing each affected rivet. EASA AD 2023-0028 also requires removing any paint in the specified gutter area of the helicopter. Lastly, EASA AD 2023-0028 requires reporting inspection findings to Airbus Helicopters.

This material is reasonably available because the interested parties have access to it through their normal course of business or by the means identified in ADDRESSES.

Other Related Service Information

The FAA also reviewed Airbus Helicopters Emergency Alert Service Bulletin (EASB) No. EC130-05A039, Revision 4, dated March 15, 2023 (EC130-05A039 Rev 4). This service information specifies procedures for repetitive visual inspections of the rear transmission bearing support areas, including the frame and skin in the area of the bearing supports, as well as repetitive visual inspections of the rivets on the left-hand and right-hand sides of the rear transmission shaft bearing support located under the Teflon tape on the tail boom. Additionally, this service information specifies procedures for a one-time visual inspection of the gutter area for paint and if necessary, removal of paint.

EASB EC130-05A039 Rev 4 also distinguishes between procedures for helicopters that do and do not have the tail drive shaft bearing support reinforcement (MOD 0720245) installed.

FAA's Determination

These helicopters have been approved by EASA and are approved for operation in the United States. Pursuant to the FAA's bilateral agreement with the European Union, EASA has notified the FAA of the unsafe condition described in its AD. The FAA is issuing this AD after evaluating all pertinent information and determining that the unsafe condition exists and is likely to exist or develop on other helicopters of the same type design.

AD Requirements

This AD retains certain requirements of AD 2022-01-05. This AD also requires accomplishing the actions specified in EASA AD 2023-0028, described previously, as incorporated by reference, except for any differences identified as exceptions in the regulatory text of this AD and except as discussed under “Differences Between this AD and EASA AD 2023-0028.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2023-0028 will be incorporated by reference in this FAA final rule. This AD would, therefore, require compliance with EASA AD 2023-0028 in its entirety through that incorporation, except for any differences identified as exceptions in the regulatory text of this AD. Using common terms that are the same as the heading of a particular section in EASA AD 2023-0028 does not mean that operators need comply only with that section. For example, where the AD requirement refers to “all required actions and compliance times,” compliance with this AD requirement is not limited to the section titled “Required Action(s) and Compliance Time(s)” in EASA AD 2023-0028. Service information referenced in EASA AD 2023-0028 for compliance will be available at https://www.regulations.gov by searching for and locating Docket No. FAA-2023-2150.

Differences Between This AD and EASA AD 2023-0028

EASA AD 2023-0028 requires using Airbus Helicopters EASB No. EC130-05A039, Revision 3, dated January 30, 2023, for compliance, whereas this AD does not and instead requires using Revision 4, dated March 15, 2023. The service information referenced in EASA AD 2023-0028 specifies that certain procedures may be done by a pilot with correct training and accreditation, or a pilot-owner, whereas this AD requires those actions be accomplished by persons authorized under 14 CFR 43.3. Depending on certain inspection results, EASA AD 2023-0028 specifies contacting Airbus Helicopters to obtain approved repair instructions and accomplishing those instructions, whereas this AD requires that repairs be done in accordance with a method approved by the FAA, EASA, or Airbus Helicopters' EASA Design Organization Approval. EASA AD 2023-0028 requires reporting certain information to Airbus Helicopters within 30 days after each rivet replacement, whereas this AD requires reporting that information within 10 days after each rivet replacement or within 10 days after the effective date of this AD.

EASA AD 2023-0028 allows credit for the initial instance of certain actions accomplished before its effective date, whereas this AD allows credit for any instance of certain actions accomplished before the effective date of this AD.

Interim Action

The FAA considers that this AD is an interim action. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because sheared attachment rivets of the transmission shaft bearing support could lead to failure of the tail rotor drive shaft, which is an assembly that is critical to the control of a helicopter. The FAA has no information pertaining to how quickly the condition may propagate to failure. In addition, it has been identified that helicopters with finishing paint applied to the gutter could prevent detection of the unsafe condition. In light of this, the compliance times for the required actions are shorter than the time necessary for the public to comment and for publication of the final rule. Inspections of the rivets on the rear transmission shaft bearing support and of the local structure, and inspections of the rivet heads of the rear bearing support must be continued from AD 2022-01-05 within intervals not to exceed 10 hours time-in-service. Depending on the inspection status of a helicopter, inspecting for the presence of paint applied on the gutter must be accomplished within 10 hours time-in-service or 7 days, whichever occurs first, or before exceeding 10 hours time-in-service since the latest inspection. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 119 helicopters of U.S. registry. Labor rates are estimated at $85 per work-hour. Based on these numbers, the FAA estimates the following costs to comply with this AD.

Inspecting the rivets and local structure takes about 0.5 work-hour for an estimated cost of about $43 per helicopter and up to $5,117 for the U.S. fleet, per inspection cycle. Removing the Teflon tape and inspecting the rivet heads takes about 0.5 work-hour for an estimated cost of about $43 per helicopter and up to $5,117 for the U.S. fleet, per inspection cycle. The corrective action that may be needed as a result of the inspection could vary significantly from helicopter to helicopter. The FAA has no data to determine the costs to accomplish the corrective action or the number of helicopters that may require corrective action.

Replacing a rivet takes about 0.5 work-hour and parts cost up to $20 for an estimated cost of up to $63 per rivet.

Inspecting and if necessary, removing paint from the gutter area takes about 0.5 work-hour for an estimated cost of up to $43 per helicopter.

Reporting information takes about 1 work-hour for an estimated cost of $85 per helicopter, per instance.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2022-01-05, Amendment 39-21893 (86 FR 74353, December 30, 2021); and

b. Adding the following new airworthiness directive:

2023-23-01 Airbus Helicopters: Amendment 39-22603; Docket No. FAA-2023-2150; Project Identifier MCAI-2023-00188-R.

(a) Effective Date

This airworthiness directive (AD) is effective November 29, 2023.

(b) Affected ADs

This AD replaces AD 2022-01-05, Amendment 39-21893 (86 FR 74353, December 30, 2021) (AD 2022-01-05).

(c) Applicability

This AD applies to Airbus Helicopters Model EC130T2 helicopters, certificated in any category, as identified in European Union Aviation Safety Agency (EASA) AD 2023-0028, dated February 1, 2023 (EASA AD 2023-0028).

(d) Subject

Joint Aircraft System Component (JASC) Code: 5300, Fuselage Structure.

(e) Unsafe Condition

This AD was prompted by a report of degradation of the rear transmission shaft bearing support and the determination that all the attachment rivets of the transmission shaft bearing support were sheared. Also, it has been reported that some attachment rivets of the transmission shaft bearing may have been painted over, preventing detection of this unsafe condition. The FAA is issuing this AD to address sheared attachment rivets of the transmission shaft bearing support. This condition, if not addressed, could lead to failure of the tail rotor drive shaft and subsequent loss of yaw control of the helicopter.

(f) Compliance

Comply with this AD within the compliance times specified, unless already done.

(g) Requirements

Except as specified in paragraph (h) of this AD: Comply with all required actions and compliance times specified in, and in accordance with, EASA AD 2023-0028.

(h) Exceptions to EASA AD 2023-0028

(1) Where EASA AD 2023-0028 defines “the ASB” as “AH Emergency Alert Service Bulletin (ASB) EC130-05A039 Revision 3;” for this AD, replace that definition with “Airbus Helicopters Emergency Alert Service Bulletin No. EC130-05A039, Revision 4, dated March 15, 2023.”

(2) Where EASA AD 2023-0028 refers to November 1, 2021 (the effective date of EASA Emergency AD 2021-0235-E, dated October 28, 2021), this AD requires using December 9, 2021 (the effective date of AD 2021-24-06, Amendment 39-21827 (86 FR 66934, November 24, 2021).

(3) Where EASA AD 2023-0028 refers to December 21, 2021 (the effective date of EASA AD 2021-0283-E, dated December 17, 2021), this AD requires using January 14, 2022 (the effective date of AD 2022-01-05).

(4) Where EASA AD 2023-0028 refers to its effective date, this AD requires using the effective date of this AD.

(5) Where EASA AD 2023-0028 requires compliance in terms of flight hours, this AD requires using hours time-in-service.

(6) Where the service information referenced in EASA AD 2023-0028 specifies that certain inspections can be done by a mechanical technician, a pilot with correct training and accreditation, or a pilot-owner, this AD requires that those inspections be accomplished by persons authorized under 14 CFR 43.3.

(7) Where paragraphs (4) and (5) of EASA AD 2023-0028 specify contacting Airbus Helicopters to obtain approved repair instructions and accomplishing those instructions within the compliance time(s) specified therein, this AD requires, before further flight, repair done in accordance with a method approved by the Manager, International Validation Branch, FAA; or EASA; or Airbus Helicopters' EASA Design Organization Approval (DOA). If approved by the DOA, the approval must include the DOA-authorized signature.

(8) Where paragraph (8) of EASA AD 2023-0028 requires reporting inspection results to Airbus Helicopters within 30 days after each rivet replacement, this AD requires reporting inspection results at the applicable time in paragraph (h)(8)(i) or (ii) of this AD.

(i) If the inspection was done on or after the effective date of this AD: Submit the report within 10 days after each rivet replacement.

(ii) If the inspection was done before the effective date of this AD: Submit the report within 10 days after the effective date of this AD.

(9) Instead of the credit allowed in paragraph (9) of EASA AD 2023-0028, you may take credit for the following; “Inspection(s) and corrective action(s) required by paragraphs (1), (2), and (6) of EASA AD 2023-0028 that have been accomplished before the effective date of this AD using Airbus Helicopters Emergency Alert Service Bulletin No. EC130-05A039 original issue, dated October 27, 2021; Revision 1, dated December 16, 2021; Revision 2, dated February 9, 2022; or Revision 3, dated January 30, 2023.”

(10) This AD does not adopt the “Remarks” section of EASA AD 2023-0028.

(i) Special Flight Permits

Special flight permits may be permitted to accomplish the actions required by paragraphs (1) and (2) of EASA AD 2023-0028 provided that there are no passengers on board. Special flight permits are prohibited for any other actions required by this AD.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Dan McCully, Program Manager, International Validation Branch, FAA, 1600 Stewart Ave., Suite 410, Westbury, NY 11590; telephone (404) 474-5548; email william.mccully@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2023-0028, dated February 1, 2023.

(ii) [Reserved]

(3) For EASA material, contact EASA, Konrad-Adenauer-Ufer 3, 50668 Cologne, Germany; telephone +49 221 8999 000; email ADs@easa.europa.eu; internet easa.europa.eu. You may find the EASA material on the EASA website at ad.easa.europa.eu.

(4) You may view this service information at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locationsoremailfr.inspection@nara.gov.

Issued on November 6, 2023.
Victor Wicklund,
Deputy Director, Compliance & Airworthiness Division, Aircraft Certification Service.

[FR Doc. 2023-25185 Filed 11-9-23; 4:15 pm]

BILLING CODE 4910-13-P